DEPARTMENT OF HEALTH AND HUMAN SERVICES

National Institutes of Health

Submission for OMB Review; 30-Day Comment Request; Evaluation of Office of Acquisitions System (OASYS) and FFRDC Contract Administration System (FCAS) Vendor Portals National Cancer Institute (NCI); Correction

AGENCY: National Institutes of Health, HHS.

ACTION: Notice; correction.

SUMMARY: The Department of Health and Human Services, National Institutes of Health published a Notice in the Federal Register on August 31, 2021. That Notice requires a correction in the SUPPLEMENTARY INFORMATION section.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Marla Jacobson, 9609 Medical Center Drive, MSC 9742, Rockville, MD 20850 or call non-toll-free number 240-276-5267 or email your request, including your address to: marla.jacobson@nih.gov. Formal requests for additional plans and instruments must be requested in writing.

SUPPLEMENTARY INFORMATION:

Correction

In the Federal Register of August 31, 2021, in FR Doc. 2021-18767, on page 48747, as found within the Supplementary Information section, within the Estimated Annualized Burden Hours table for the Total Annual Burden Hours for the form name column Survey—FCAS total currently reads “1” and is corrected to read: “0”, the form name column Registration—FCAS total currently reads “1” and is corrected to read: “0”. These corrections revise the Total Annual Burden Hours total currently reads “232” and is corrected to read: “230”.

Dated: September 1, 2021.
Diane Kreinbrink,
Project Clearance Liaison, National Cancer Institute, National Institutes of Health.

[FR Doc. 2021-19281 Filed 9-7-21; 8:45 am]

BILLING CODE 4140-01-P